DEPARTMENT OF COMMERCE

International Trade Administration

[A-570-900]

Diamond Sawblades and Parts Thereof From the People's Republic of China: Notice of Court Decision Not in Harmony With the Final Results of Review and Amended Final Results of the Antidumping Duty Administrative Review

AGENCY: Enforcement and Compliance, International Trade Administration, Commerce.

SUMMARY: On September 23, 2015, the United States Court of International Trade (Court) sustained our final remand redetermination pertaining to the administrative review of the antidumping duty order on diamond sawblades and parts thereof from the People's Republic of China covering the period January 23, 2009, through October 31, 2010.¹ Consistent with the decision of the United States Court of Appeals for the Federal Circuit (CAFC) in Timken Co. v. United States, 893 F.2d 337 (Fed. Cir. 1990) (Timken), as clarified by Diamond Sawblades Mfrs. Coalition v. United States, 626 F.3d 1374 (Fed. Cir. 2010) (Diamond Sawblades), the Department of Commerce (the Department) is notifying the public that the Court's final judgment in this case is not in harmony with the AR1 Final Results ² and that the Department is amending the AR1 Final Results with respect to the ATM Single Entity ³ and the PRC-wide entity.

¹ See Final Results of Redetermination pursuant to Diamond Sawblades Manufacturers' Coalition v. United States, Court No. 13-00078, slip op. 14-50 (Ct. Int'l Trade April 29, 2014), dated April 10, 2015, and available at http://enforcement.trade.gov/remands/14-50.pdf (AR1 Remand), aff'd, Diamond Sawblades Manufacturers' Coalition v. United States, Court No. 13-00078, slip op. 15-105 (Ct. Int'l Trade September 23, 2015).

² See Diamond Sawblades and Parts Thereof From the People's Republic of China: Final Results of Antidumping Duty Administrative Review; 2009-2010, 78 FR 11143 (February 15, 2013) (AR1 Final Results).

³ The ATM Single Entity includes Advanced Technology & Materials Co., Ltd., Beijing Gang Yan Diamond Products Co., HXF Saw Co., Ltd., AT&M International Trading Co., Ltd., and Cliff International Ltd. See AR1 Final Results, 78 FR at 11144-45 n.9.

DATES: Effective Date: October 3, 2015.

FOR FURTHER INFORMATION CONTACT: Yang Jin Chun or Minoo Hatten, AD/CVD Operations, Office I, Enforcement and Compliance, International Trade Administration, U.S. Department of Commerce, 14th Street and Constitution Avenue NW, Washington, DC 20230; telephone (202) 482-5760 or (202) 482-1690, respectively.

SUPPLEMENTARY INFORMATION:

Background

On February 15, 2013, the Department published the AR1 Final Results. The Diamond Sawblades Manufacturers' Coalition challenged the Department's decisions to grant the ATM Single Entity a separate rate and to not collapse the state-owned enterprise, China Iron & Steel Research Institute, within the ATM Single Entity.⁴ The Department requested a voluntary remand to reconsider the separate rate eligibility for the ATM Single Entity in this review and the Court granted the Department's request.⁵ On remand, the Department determined that the ATM Single Entity was ineligible for a separate rate and also revised the PRC-wide rate.⁶ On September 23, 2015, the Court entered judgment sustaining the final remand redetermination for this review in its entirety.⁷

⁴ See Diamond Sawblades Manufacturers' Coalition v. United States, Court No. 13-00078, slip op. 14-50 (Ct. Int'l Trade April 29, 2014).

⁵ Id.

⁶ See AR1 Remand.

⁷ See Diamond Sawblades Manufacturers' Coalition v. United States, Court No. 13-00078, slip op. 15-105 (Ct. Int'l Trade Sept. 23, 2015).

Timken Notice

In its decision in Timken, as clarified by Diamond Sawblades, the CAFC held that, pursuant to section 516A(e) of the Tariff Act of 1930, as amended (the Act), the Department must publish a notice of a court decision that is not “in harmony” with a Department determination and must suspend liquidation of entries pending a “conclusive” court decision. The Court's final judgment affirming the final remand redetermination constitutes the Court's final decision which is not in harmony with the AR1 Final Results. This notice is published in fulfillment of the publication requirements of Timken. Accordingly, the Department will continue the suspension of liquidation of the subject merchandise pending a final and conclusive court decision.

Amended Final Results of Review

Because there is now a final court decision, the Department is amending the AR1 Final Results with respect to the PRC-wide entity, which includes the ATM Single Entity, as follows:

Exporter | Weighted- average dumping margin (percent)
PRC-Wide Entity (which includes the ATM Single Entity) | 82.12

In the event the Court's ruling is upheld by a final and conclusive court decision, the Department will instruct the U.S. Customs and Border Protection to assess antidumping duties on unliquidated entries of subject merchandise based on the revised rate the Department determined and listed above.

Cash Deposit Requirements

Since the AR1 Remand, the Department has established a new cash deposit rate for the PRC-wide entity, which includes the ATM Single Entity.⁸ Therefore, the cash deposit rate for the PRC-wide entity does not need to be updated as a result of these amended final results.

⁸ See Diamond Sawblades and Parts Thereof From the People's Republic of China; Final Results of Antidumping Duty Administrative Review; 2012-2013, 80 FR 32344 (June 8, 2015).

Notification to Interested Parties

This notice is issued and published in accordance with sections 516A(e)(1), 751(a)(1), and 777(i)(1) of the Act.

Dated: January 12, 2016.
Paul Piquado,
Assistant Secretary for Enforcement and Compliance.

[FR Doc. 2016-00923 Filed 1-15-16; 8:45 am]

BILLING CODE 3510-DS-P